DEPARTMENT OF HEALTH AND HUMAN SERVICES

[Document Identifier: OS-0990-0243; 60-day Notice]

Notice of Request for Public Comment

AGENCY: Office of the Secretary, HHS.

Agency Information Collection Request: 60-Day Public Comment Request.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: The Civil Rights Information Request Form—OMB No. 0990-0243- Extension-Office for Civil Rights.

Abstract: The Office of Civil Rights is requesting a 3 year extension of the Civil Rights Information Request Form is for a 3 year extension. The Civil Rights Information Request Form is designed to collect data from health care providers who have requested certification to participate in the Medicare Part A program. As part of the Medicare certification process, health care facilities must receive a civil rights clearance from the Office for Civil Rights (OCR). OCR uses the information to determine compliance with civil rights statutes and regulations. The civil rights information is requested only when a health care provider applies for Medicare Part A certification; it is not necessary on a regular yearly basis. Entities that are affected by the Civil Rights Information Request Form are: health care providers applying for Medicare certification, and individuals who, as a result of civil rights clearances, should be granted equal access to quality health care, regardless of race, color, national origin, disability, and age.

Estimated Annualized Burden Table
Forms | Type of respondent | Number of respondents | Number of responses per respondent | Average burden (in hours) per response | Total burden hours
Medicare Certification | Health care providers | 2900 | 1 | 8 | 23,200

Seleda Perryman,
Office of the Secretary, Paperwork Reduction Act Clearance Officer.

[FR Doc. 2010-20143 Filed 8-13-10; 8:45 am]

BILLING CODE 4153-01-P